DEPARTMENT OF ENERGY

Federal Energy Regulatory Commission

18 CFR Part 11

[Docket No. RM02-2-000]

Update of the Federal Energy Regulatory Commission's Fees Schedule for Annual Charges for the Use of Government Lands

November 21, 2001.

AGENCY: Federal Energy Regulatory Commission, DOE.

ACTION: Final rule; update of Federal land use fees.

SUMMARY: In accordance with the Commission's regulations, the Commission by its designee, the Executive Director, is updating its schedule of fees for the use of government lands. The yearly update is based on the most recent schedule of fees for the use of linear rights-of-way prepared by the United States Forest Service. Since the next fiscal year will cover the period from October 1, 2001 through September 30, 2002 the fees in this document will become effective October 1, 2001 The fees will apply to fiscal year 2002 annual charges for the use of government lands.

EFFECTIVE DATE: October 1, 2001.

FOR FURTHER INFORMATION CONTACT: Fannie Kingsberry, Financial Services Division, Office of the Executive Director, Federal Energy Regulatory Commission, 888 First Street, NE., Washington, DC 20426, (202) 219-2885.

SUPPLEMENTARY INFORMATION:

Document Availability: In addition to publishing the full text of this document in the Federal Register, the Commission provides all interested persons an opportunity to view and/or print the contents of this document via the Internet through FERC's Home Page (http://www.ferc.fed.us) and in FERC's Public Reference Room during normal business hours (8:30 a.m. to 5 p.m. Eastern time) at 888 First Street, NE., Room 2A, Washington, DC 20426.

From FERC's Home Page on the Internet, this information is available in both the Commission Issuance Posting System (CIPS) and the Records and Information Management System (RIMS).

—CIPS provides access to the texts of formal documents issued by the Commission since November 14, 1994.

—CIPS can be accessed using the CIPS link or the Energy Information Online icon. The full text of this document is available on CIPS in ASCII and WordPerfect 8.0 format for viewing, printing, and/or downloading.

—RIMS contains images of documents submitted to and issued by the Commission after November 16, 1981. Documents from November 1995 to the present can be viewed and printed from FERC's Home Page using the RIMS link or the Energy Information Online icon. Descriptions of documents back to November 16, 1981, are also available from RIMS-on-the-Web; requests for copies of these and other older documents should be submitted to the Public Reference Room.

User assistance is available for RIMS, CIPS, and the Website during normal business hours from our Help line at (202) 208-2222 (E-Mail to WebMaster@ferc.fed.us) or the Public Reference at (202) 208-1371 (E-Mail to public.referenceroom@ferc.fed.us).

During normal business hours, documents can also be viewed and/or printed in FERC's Public Reference Room, where RIMS, CIPS, and the FERC Website are available. User assistance is also available.

The Commission has concluded, with the concurrence of the Administrator of the Office of Information and Regulatory Affairs of OMB that this rule is not a “major rule” as defined in section 351 of the Small Business Regulatory Enforcement Fairness Act of 1996, 5 U.S.C. 804(2).

List of Subjects in 18 CFR Part 11

Electric power, Reporting and recordkeeping requirements.

Thomas R. Herlihy,
Office of the Executive Director and Chief Financial Officer.

Accordingly, the Commission, effective October 1, 2001, amends part 11 of Chapter I, Title 18 of the Code of Federal Regulations, as follows:

PART 11—[AMENDED]

1. The authority citation for part 11 continues to read as follows:

Authority: 16 U.S.C. 791a-825r; 42 U.S.C. 7101-7352.

2. In part 11, Appendix A is revised to read as follows:

Appendix A To Part II—Fee Schedule for FY 2002

State | County | Rate per acre
Alabama | All Counties | $25.96
Arkansas | All Counties | 19.48
Arizona | Apache, Cochise, Gila, Graham, La Paz, Mohave, Navajo, Pima, Yavapai, Yuma, Coconino North of Colorado River | 6.47
| Coconino South of Colorado River, Greenlee, Maricopa, Pinal, Santa Cruz | 25.96
California | Imperial, Inyo, Lassen, Modoc, Riverside, San Bernardino | 12.98
| Siskiyou | 19.48
| Alameda, Alpine, Amador, Butte, Calaveras, Colusa, Contra Costa, Del Norte, El Dorado, Fresno, Glenn, Humboldt, Kern, Kings Lake, Madera, Mariposa, Mendicino, Merced, Mono, Napa, Nevada, Placer, Plumas, Sacramento, San Benito, San Joaquin, Santa Clara, Shasta, Sierra, Solano, Sonoma, Stanislaus, Sutter, Tehama, Trinity, Tulare Kings, Tuolumne, Yolo, Yuba | 32.45
| Los Angeles, Marin, Monterey, Orange, San Diego, San Francisco, San Luis Obispo, San Mateo, Santa Barbara, Santa Cruz, Ventura | 38.96
Colorado | Adams, Arapahoe, Bent, Cheyenne, Crowley, Elbert, El Paso, Huerfano, Kiowa, Kit Carson, Lincoln, Logan, Moffat, Montezuma, Morgan, Pueblo, Sedgewick, Washington, Weld, Yuma | 6.47
| Baca, Dolores, Garfield, Las Animas, Mesa, Montrose, Otero, Prowers, Rio Blanco, Routt, San Miguel | 12.98
| Alamosa, Archuleta, Boulder, Chaffee, Clear Creek, Conejos, Costilla, Custer, Denver, Delta, Douglas, Eagle, Fremont, Gilpin, Grand, Gunnison, Hinsdale, Jackson, Jefferson, Lake, La Plata, Larimer, Mineral, Ouray, Park, Pitkin, Rio Grande, Saguache, San Juan, Summit, Teller | 25.96
Connecticut | All Counties | 6.47
Florida | Baker, Bay, Bradford, Calhoun, Clay, Columbia, Dixie, Duval, Escambia, Franklin, Gadsden, Gilchrist, Gulf, Hamilton, Holmes, Jackson, Jefferson, Lafayette, Leon, Liberty, Madison, Nassau, Okaloosa, Santa Rosa, Suwannee, Taylor, Union, Wakulla, Walton, Washington | 38.96
| All Other Counties | 64.90
Georgia | All Counties | 38.96
Idaho | Cassia, Gooding, Jerome, Lincoln, Minidoka, Oneida, Owyhee, Power, Twin Falls | 6.47
| Ada, Adams, Bannock, Bear Lake, Benewah, Bingham, Blaine, Boise, Bonner, Bonneville, Boundary, Butte, Camas, Canyon, Caribou, Clark, Clearwater, Custer, Elmore, Franklin, Fremont, Gem, Idaho, Jefferson, Kootenai, Latah, Lemhi, Lewis, Madison, Nez Perce, Payette, Shoshone, Teton, Valley, Washington | 19.48
Illinois | All Counties | 19.48
Indiana | All Counties | 32.45
Kansas | Morton | 12.98
| All Other Counties | 6.47
Kentucky | All Counties | 19.48
Louisiana | All Counties | 38.96
Maine | All Counties | 19.48
Michigan | Alger, Baraga, Chippewa, Delta, Dickinson, Gogebic, Houghton, Iron, Keweenaw, Luce, Macking, Marquette, Menominee, Ontonagon, Schoolcraft | 19.48
| All Other Counties | 25.96
Minnesota | All Counties | 19.48
Mississippi | All Counties | 25.96
Missouri | All Counties | 19.48
Montana | Big Horn, Blaine, Carter, Cascade, Chouteau, Custer, Daniels, McCone, Meagher, Dawson, Fallon, Fergus, Garfield, Glacier, Golden Valley, Hill, Judith Basin, Liberty, Musselshell, Petroleum, Phillips, Pondera, Power River, Prairie, Richland, Roosevelt, Rosebud, Sheridan, Teton, Toole, Treasure, Valley, Wheatland, Wibaux | 6.47
| Yellowstone, Beaverhead, Broadwater, Carbon, Deer Lodge, Flathead, Gallatin, Granite, Jefferson, Lake, Lewis & Clark, Lincoln, Madison, Mineral, Missoula, Park, Powell, Ravalli, Sanders, Silver Bow, Stillwater, Sweet Grass | 19.48
Nebraska | All Counties | 6.47
Nevada | Churchill, Clark, Elko, Esmeralda, Eureka, Humboldt, Lander, Lincoln, Lyon, Mineral, Nye, Pershing, Washoe | 3.24
| White Pine, Carson City, Douglas, Story | 32.45
New Hampshire | All Counties | 19.48
New Mexico | Chaves, Curry, De Baca, Dona Ana, Eddy, Grant, Guadalupe, Harding, Hidalgo, Lea, Luna, McKinley, Otero, Quay, Roosevelt, San Juan, Socorro, Torrence | 6.47
| Rio Arriba, Sandoual, Union | 12.98
| Bernalillo, Catron, Cibola, Colfax, Lincoln, Los Alamos, Mora, San Miguel, Santa Fe, Sierra, Taos, Valencia | 25.96
New York | All Counties | 25.96
North Carolina | All Counties | 38.96
North Dakota | All Counties | 6.47
Ohio | All Counties | 25.96
Oklahoma | Beaver, Cimarron, Roger Mills, Texas | 12.98
| Le Flore, McCurtain | 19.48
| All Other Counties | 6.47
Oregon | Harney Lake, Malheur, Baker | 6.47
| Crook, Deschutes, Gillam, Grant, Jefferson, Klamath, Morrow, Sherman, Umatilla, Union, Wallowa, Wasco, Wheeler | 12.98
| Coos, Curry, Douglas, Jackson, Josephine | 19.48
| Benton, Clackamas, Clatsop, Columbia, Hood River, Lane, Lincoln, Linn, Marion, Multnomah, Polk, Tillamook, Washington, Yamhill | 25.96
| Fall River, Lawrence, Mead, Pennington, All Other Counties | 6.47
Pennsylvania | All Counties | 25.96
Puerto Rico | All | 38.96
South Carolina | All Counties | 38.96
South Dakota | Butte, Custer | 19.48
Tennessee | All Counties | 25.96
Texas | Culberson, El Paso, Hudspeth | 6.47
| All Other Counties | 38.96
Utah | Beaver, Box Elder, Carbon, Duchesne, Emery, Garfield, Grand, Iron, Juab, Kane, Millard, San Juan, Tooele, Uintah, Wayne | 6.47
| Washington | 12.98
| Cache, Daggett, Davis, Morgan, Piute, Rich, Salt Lake, Sanpete, Sevier, Summit, Utah, Wasatch, Weber | 19.48
Vermont | All Counties | 25.96
Virginia | All Counties | 25.96
Washington | Adams, Asotin, Benton, Chelan, Columbia, Douglas, Franklin, Garfield, Grant, Kittitas, Klickitat, Lincoln, Okanogan, Spokane, Walla Walla, Whitman, Yakima | 12.48
| Ferry, Pend Oreille, Stevens | 19.48
| Clallam, Clark, Cowlitz, Grays Harbor, Island, Jefferson, King, Kitsap, Lewis, Mason, Pacific, Pierce, San Juan, Skagit, Skamania, Snohomish, Thurston, Wahkiakum, Whatcom | 25.96
West Virginia | All Counties | 25.96
Wisconsin | All Counties | 19.48
Wyoming | Albany, Campbell, Carbon, Converse, Goshen, Hot Springs, Johnson, Laramie, Lincoln, Natrona, Niobrara, Platte, Sheridan, Sweetwater, Fremont, Sublette, Uinta | 6.47
| Washakie, Big Horn, Crook, Park, Teton, Weston | 19.48
All Other Zone |  | 6.24

[FR Doc. 01-29567 Filed 11-27-01; 8:45 am]

BILLING CODE 6717-01-P